DEPARTMENT OF AGRICULTURE

Forest Service

Notice of Resource Advisory Committee Meeting

AGENCY: Lassen Resource Advisory Committee, Susanville, California, USDA Forest Service.

ACTION: Notice of meeting.

SUMMARY: Pursuant to the authorities in the Federal Advisory Committees Act (Pub.L. 92-463) and under the Secure Rural Schools and Community Self-Determination Act of 2000 (Pub. L. 110 343) the Lassen County Resource Advisory Committee will meet February 10, 2010 in Susanville, California for a business meeting. The meeting is open to the public.

SUPPLEMENTARY INFORMATION: The business meeting on February 10, 2010 will begin at 9 a.m., at the Lassen National Forest Headquarters Office, Caribou Conference Room, 2550 Riverside Drive, Susanville, CA 96130. This meeting will be dedicated to review the proposals for 2009 funding cycle, hear project presentations and vote on projects to recommend for funding.

FOR FURTHER INFORMATION CONTACT: Contact Terri Frolli, Designated Federal Official, at (530) 257-4188; or Public Affairs Officer, Heidi Perry, at (530) 252-6604.

Kathleen S. Morse,
Forest Supervisor.

[FR Doc. 2010-2079 Filed 2-3-10; 8:45 am]

BILLING CODE M